DEPARTMENT OF COMMERCE

Foreign-Trade Zones Board

[Docket 11-2008]

Foreign-Trade Zone 64 - Jacksonville, Florida, Application for Manufacturing Authority Bacardi USA, Inc. (Alcoholic Beverages)

An application has been submitted to the Foreign-Trade Zones Board (the Board) by the Jacksonville Port Authority, grantee of FTZ 64, requesting manufacturing authority on behalf of Bacardi USA, Inc. (Bacardi) at the OutSource Logistics, Inc. (Outsource Logistics) facility, within FTZ 64 in Jacksonville, Florida. The application was submitted pursuant to the provisions of the FTZ Act, as amended (19 U.S.C. 81a-81u), and the regulations of the Board (15 CFR Part 400). It was formally filed on February 21, 2008.

The Bacardi/Outsource Logistics facility (60 employees) is located within Site 1A of FTZ 64, at the Imeson International Industrial Park in Jacksonville. The facility will be used for the kitting, warehousing/distribution, and storage of liquor gift packs (HTSUS duty rates 2208.50, 2208.60, 2204.10; duty rates range from duty-free to 19.8 cents/liter). Materials sourced from abroad (representing 90 percent of the value of the finished product) include: imported alcoholic beverages and glasses or flutes (HTSUS 2208.50, 2208.60, 2204.10, and 2013.28; duty rates range from duty-free to 22.5%).

The application also requests authority to produce gin gift sets, vodka gift sets, and champagne gift sets (duty rates range from duty-free to 22.4 cents per liter) from imported gin, vodka, champagne and glasses (duty rates range from duty-free to 38%) that Bacardi may assemble into kits under FTZ procedures in the future. New major activity involving these inputs/products would require review by the FTZ Board.

FTZ procedures would exempt Bacardi from customs duty payments on the foreign components used in export production. The company anticipates that some ten percent of the facility's shipments will be exported. On its domestic sales, Bacardi would be able to choose the duty rate during customs entry procedures that apply to finished liquor packs for the foreign inputs noted above. The request indicates that the savings from FTZ procedures would help improve the facility's international competitiveness.In accordance with the Board's regulations, a member of the FTZ Staff has been designated examiner to investigate the application and report to the Board.

Public comment on the application is invited from interested parties. Submissions (original and 3 copies) shall be addressed to the Board's Executive Secretary at the address below. The closing period for their receipt is May 6, 2008. Rebuttal comments in response to material submitted during the foregoing period may be submitted during the subsequent 15-day period to May 21, 2008.

A copy of the application and accompanying exhibits will be available for public inspection at each of the following locations: U.S. Department of Commerce Export Assistance Center, 3 Independent Drive, Jacksonville, Florida 32202-5004; and, the Office of the Executive Secretary, Foreign-Trade Zones Board, U.S. Department of Commerce, Room 2111, 1401 Constitution Avenue, NW, Washington, DC 20230.

For further information, contact Kathleen Boyce at (202) 482-1346 or Kathleen_Boyce@ita.doc.gov.

Dated: February 21, 2008.
Andrew McGilvray,
Executive Secretary.

[FR Doc. E8-4551 Filed 3-6-08; 8:45 am]

BILLING CODE 3510-DS-S